DEPARTMENT OF COMMERCE

National Telecommunications and Information Administration

Multistakeholder Process To Develop Consumer Data Privacy Code of Conduct Concerning Facial Recognition Technology

AGENCY: National Telecommunications and Information Administration, U.S. Department of Commerce.

ACTION: Notice of open meetings.

SUMMARY: The National Telecommunications and Information Administration (NTIA) will convene meetings of a privacy multistakeholder process concerning the commercial use of facial recognition technology on November 6, 2014, and December 15, 2014.

DATES: The meetings will be held on November 6, 2014, and December 15, 2014 from 1:00 p.m. to 5:00 p.m., Eastern Time. See Supplementary Information for details.

ADDRESSES: The meetings will be held in the Boardroom at the American Institute of Architects, 1735 New York Avenue NW., Washington, DC 20006.

FOR FURTHER INFORMATION CONTACT: John Verdi, National Telecommunications and Information Administration, U.S. Department of Commerce, 1401 Constitution Avenue NW., Room 4725, Washington, DC 20230; telephone (202) 482-8238; email jverdi@ntia.doc.gov. Please direct media inquiries to NTIA's Office of Public Affairs, (202) 482-7002; email press@ntia.doc.gov.

SUPPLEMENTARY INFORMATION:

Background: On February 23, 2012, the White House released Consumer Data Privacy in a Networked World: A Framework for Protecting Privacy and Promoting Innovation in the Global Digital Economy (the “Privacy Blueprint”).¹ The Privacy Blueprint directs NTIA to convene multistakeholder processes to develop legally enforceable codes of conduct that specify how the Consumer Privacy Bill of Rights applies in specific business contexts.² On December 3, 2013, NTIA announced that it would convene a multistakeholder process with the goal of developing a code of conduct to protect consumers' privacy and promote trust regarding facial recognition technology in the commercial context.³ On February 6, 2014, NTIA convened the first meeting of the multistakeholder process, followed by additional meetings through July 2014.

¹ The Privacy Blueprint is available at http://www.whitehouse.gov/sites/default/files/privacy-final.pdf.

² Id.

³ NTIA, Facial Recognition Technology, http://www.ntia.doc.gov/other-publication/2013/privacy-multistakeholder-process-facial-recognition-technology.

Matters To Be Considered: The November 6, 2014 and December 15, 2014 meetings are continuations of a series of NTIA-convened multistakeholder discussions concerning facial recognition technology. Stakeholders will engage in an open, transparent, consensus-driven process to develop a code of conduct regarding facial recognition technology. The November 6, 2014 and December 15, 2014 meetings will build on stakeholders' previous work. More information about stakeholders' work is available at: http://www.ntia.doc.gov/other-publication/2014/privacy-multistakeholder-process-facial-recognition-technology.

Time and Date: NTIA will convene meetings of the privacy multistakeholder process regarding facial recognition technology on November 6, 2014 and December 15, 2014, from 1:00 p.m. to 5:00 p.m., Eastern Time. The meeting dates and times are subject to change. The meetings are subject to cancelation if stakeholders complete their work developing a code of conduct. Please refer to NTIA's Web site, http://www.ntia.doc.gov/other-publication/2014/privacy-multistakeholder-process-facial-recognition-technology, for the most current information.

Place: The meetings will be held in the Boardroom at the American Institute of Architects, 1735 New York Avenue NW., Washington, DC 20006. The location of the meetings is subject to change. Please refer to NTIA's Web site, http://www.ntia.doc.gov/other-publication/2014/privacy-multistakeholder-process-facial-recognition-technology, for the most current information.

Other Information: The meetings are open to the public and the press. The meetings are physically accessible to people with disabilities. Requests for sign language interpretation or other auxiliary aids should be directed to John Verdi at (202) 482-8238 or jverdi@ntia.doc.gov at least seven (7) business days prior to the meeting. The meetings will also be webcast. Requests for real-time captioning of the webcast or other auxiliary aids should be directed to John Verdi at (202) 482-8238 or jverdi@ntia.doc.gov at least seven (7) business days prior to the meeting. There will be an opportunity for stakeholders viewing the webcasts to participate remotely in the meetings through a moderated conference bridge, including polling functionality. Access details for the meetings are subject to change. Please refer to NTIA's Web site, http://www.ntia.doc.gov/other-publication/2013/privacy-multistakeholder-process-facial-recognition-technology, for the most current information.

Dated: October 23, 2014.
Kathy D. Smith,
Chief Counsel.

[FR Doc. 2014-25573 Filed 10-27-14; 8:45 am]

BILLING CODE 3510-60-P